DEPARTMENT OF HEALTH AND HUMAN SERVICES

Centers for Medicare & Medicaid Services

[CMS-2298-N]

Medicaid Program; Town Hall Forum on Access to Dental Care for Medicaid-Eligible Children; April 6, 2009

AGENCY: Centers for Medicare & Medicaid Services (CMS), HHS.

ACTION: Notice of meeting.

SUMMARY: This notice announces a town hall forum to discuss access to dental care for Medicaid eligible children. Beneficiaries, providers, dentists, industry representatives, and other interested parties are invited to this meeting to present their views, concerns, and recommendations related to oral health issues. The forum is open to the public, but attendance is limited to space available.

DATES: Meeting Date: The town hall forum will be held on Monday, April 6, 2009, from 1 p.m. to 4 p.m., eastern daylight time (e.d.t.).

Deadline for Meeting Registration: Registrations must be received by Wednesday, April 1, 2009, by 5 p.m., e.d.t.

Deadline for Requesting Special Accommodations: Participants requiring special accommodations should contact Cindy Ruff at the address specified in the ADDRESSES section of this notice by Friday, March 27, 2009, by 5 p.m., e.d.t.

ADDRESSES: Meeting Location: The town hall forum will be held in the auditorium at the Center for Medicare & Medicaid Services, 7500 Security Boulevard, Baltimore, MD 21244.

Meeting Registration: Participants may register via e-mail at Cynthia.Ruff@cms.hhs.gov or by regular mail at the Centers for Medicare and Medicaid Services, Center for Medicaid and State Operations, Family and Children's Health Programs Group, 7500 Security Boulevard, S2-01-16, Baltimore, MD 21244.

Inquires: Send inquiries about this meeting via email to Cynthia.ruff@cms.hhs.gov.

FOR FURTHER INFORMATION CONTACT: Cindy Ruff, 410-786-5916.

SUPPLEMENTARY INFORMATION:

I. Background

In response to Congressional hearings and Federal studies regarding access to dental care for Medicaid eligible children, we performed 16 State dental reviews in 2008. We recently published a National Summary of those State reviews and identified several opportunities for improving dental care for individuals eligible for Medicaid. We proposed to have a Town Hall Forum to discuss these opportunities. The Forum will provide a venue for participants to provide feedback to us on various oral health issues and to discuss best practices and innovative delivery models for dental care. We will work with co-facilitators, the National Association of State Medicaid Directors and the American Dental Association, in presenting the Forum.

II. Meeting Format

The meeting will begin with introductions of the individuals participating in the meeting and an overview of the goal and objectives of the meeting. There will be a brief overview of the role and functions of Federal and State programs in delivering dental care to individuals eligible for Medicaid. There will be an opportunity for several States to briefly present information on a promising oral health practice in their State. The third portion of the Forum will focus on discussion of delivery of dental services through managed care organizations, payment issues, best practices/innovative delivery models, and recommendations for education and outreach to dental providers and Medicaid enrollees.

Prior to the Town Hall Forum, we will distribute information via the CMS Web site including an agenda and a set of questions to be addressed at the Forum. The materials will be posted on the CMS web site at http://www.cms.hhs.gov/MedicaidSCHIPQualPrac/02_whatsnewinquality.asp#TopOfPage. Registered participants may submit additional questions/comments to be considered for discussion at the Forum.

III. Registration Instructions

There is no registration fee associated with attending the meeting. All individuals must register to attend. Because this meeting will be located on Federal property, for security reasons any persons wishing to attend must register at one of the addresses specified in the ADDRESSES section of this notice by the date specified in the DATES section of this notice. Please provide your full name (as it appears on your State-issued driver's license), address, organization, telephone, fax number(s), and e-mail address. You will receive a registration confirmation with instructions for your arrival at the CMS complex or you will be notified the seating capacity has been reached. The meeting is limited to registered persons, and seating capacity is limited to the first 250 registrants.

Individuals requiring sign language interpretation for the hearing impaired or other special accommodations should contact Cindy Ruff at the address listed in the ADDRESSES section of this notice by the date specified in the DATES section of this notice.

IV. Security, Building, and Parking Guidelines

This meeting will be held in a Federal government building; therefore, Federal security measures are applicable. We recommend that confirmed registrants arrive at CMS reasonably early, but no earlier than 45 minutes prior to the start of the meeting, to allow additional time to clear security. Security measures include the following:

• Presentation of government-issued photographic identification to the Federal Protective Service or Guard Service personnel.

• Inspection of vehicle's interior and exterior (this includes engine and trunk inspection) at the entrance to the grounds. Parking permits and instructions will be issued after the vehicle inspection.

• Inspection, via metal detector or other applicable means of all persons brought entering the building. We note that all items brought into CMS, whether personal or for the purpose of presentation or to support a presentation, are subject to inspection. We cannot assume responsibility for coordinating the receipt, transfer, transport, storage, set-up, safety, or timely arrival of any personal belongings or items used for presentation or to support a presentation.

Note: Individuals who are not registered in advance will not be permitted to enter the building and will be unable to attend the meeting. The public may not enter the building earlier than 45 minutes prior to the convening of the meeting.

All visitors must be escorted in areas other than the lower and first floor levels in the Central Building.

Authority: Catalog of Federal Domestic Assistance Program No. 93.778, Medical Assistance Program.

Dated: January 14, 2009.
Kerry Weems,
Acting Administrator, Centers for Medicare & Medicaid Services.

[FR Doc. E9-1294 Filed 1-22-09; 8:45 am]

BILLING CODE 4120-01-P